DEPARTMENT OF JUSTICE

Antitrust Division

Notice Pursuant to the National Cooperative Research and Production Act of 1993; Network Centric Operations Industry Consortium, Inc.

Notice is hereby given that, on August 31, 2011, pursuant to Section 6(a) of the National Cooperative Research and Production Act of 1993, 15 U.S.C. 4301 et seq. (“the Act”), Network Centric Operations Industry Consortium, Inc. (“NCOIC”) has filed written notifications simultaneously with the Attorney General and the Federal Trade Commission disclosing changes in its membership. The notifications were filed for the purpose of extending the Act's provisions limiting the recovery of antitrust plaintiffs to actual damages under specified circumstances. Specifically, The Open Group, San Francisco, CA, has been added as a party to this venture.

Also, Israel Aerospace Industries, Ltd., Lod, Israel; Objective Interface Systems, Inc., Herndon, VA; International Data Links Society, San Diego, CA; Institute for Defense Analyses, Alexandria, VA; Center for Netcentric Product Research, East Hartford, CT; Vector Planning and Services, Inc. (“VPSI”), San Diego, CA; SYPAQ, Melbourne, Australia; and Telephonics Corporation, Farmingdale, NY, have withdrawn as parties to this venture.

No other changes have been made in either the membership or planned activity of the group research project. Membership in this group research project remains open, and NCOIC intends to file additional written notifications disclosing all changes in membership.

On November 19, 2004, NCOIC filed its original notification pursuant to Section 6(a) of the Act. The Department of Justice published a notice in the Federal Register pursuant to Section 6(b) of the Act on February 2, 2005 (70 FR 5486).

The last notification was filed with the Department on June 9, 2011. A notice was published in the Federal Register pursuant to Section 6(b) of the Act on July 20, 2011 (76 FR 43347).

Patricia A. Brink,
Director of Civil Enforcement, Antitrust Division.

[FR Doc. 2011-26429 Filed 10-12-11; 8:45 am]

BILLING CODE 4410-11-M